DEPARTMENT OF AGRICULTURE

Forest Service

Big Bar Ranger District; California; Burnt Ranch Fire Resilient Community Project

AGENCY: Forest Service, Agriculture (USDA).

ACTION: Notice; withdrawal.

SUMMARY: The Shasta-Trinity National Forest is withdrawing the notice of intent to prepare an environmental impact statement. The Burnt Ranch Fire Resilient Community Project Notice of Intent was published in the Federal Register on Wednesday, December 24, 2014 (79 FR 77449). The Shasta-Trinity National Forest decision to withdraw the NOI is because the project has been redesigned to address impacts from a devastating wildfire.

FOR FURTHER INFORMATION CONTACT: Tara Jones, District Ranger, Trinity River Management Unit, by email to tara.jones@usda.gov. Individuals who use telecommunication devices for the deaf (TDD) may call the Federal Information Relay Service (FIRS) at 800-877-8339, 24 hours a day, every day of the year, including holidays.

Keith Lannom,
Associate Deputy Chief, National Forest System.

[FR Doc. 2024-14483 Filed 7-1-24; 8:45 am]

BILLING CODE 3411-15-P